DEPARTMENT OF ENERGY

Federal Energy Regulatory Commission

Combined Notice of Filings #2

Take notice that the Commission received the following electric rate filings:

Docket Numbers: ER10-1257-001; ER10-1258-001.

Applicants: Wabash Valley Power Association, Inc., Wabash Valley Energy Marketing, Inc.

Description: Supplement to Updated Market Power Filing Information of Wabash Valley Power Association, Inc., et al.

Filed Date: 3/1/12.

Accession Number: 20120301-5178.

Comments Due: 5 p.m. ET 3/22/12.

Docket Numbers: ER12-1188-000.

Applicants: Midwest Independent Transmission System Operator, Inc.

Description: J035 GIA Termination to be effective 5/1/2012.

Filed Date: 3/1/12.

Accession Number: 20120301-5137.

Comments Due: 5 p.m. ET 3/22/12.

Docket Numbers: ER12-1189-000.

Applicants: DeWind Novus, LLC.

Description: Initial MBR Tariff Application to be effective 4/30/2012.

Filed Date: 3/1/12.

Accession Number: 20120301-5143.

Comments Due: 5 p.m. ET 3/22/12.

Docket Numbers: ER12-1190-000.

Applicants: Midwest Independent Transmission System Operator, Inc.

Description: J033 GIA Termination to be effective 5/1/2012.

Filed Date: 3/1/12.

Accession Number: 20120301-5144.

Comments Due: 5 p.m. ET 3/22/12.

Docket Numbers: ER12-1191-000.

Applicants: PJM Interconnection, L.L.C.

Description: Queue Position U3-031; Original Service Agreement No. 3240 to be effective 1/31/2012.

Filed Date: 3/1/12.

Accession Number: 20120301-5148.

Comments Due: 5 p.m. ET 3/22/12.

Docket Numbers: ER12-1192-000.

Applicants: Wisconsin Electric Power Company.

Description: Wisconsin Electric Power Company Notice of Termination of Rate Schedule No. 111.

Filed Date: 3/1/12.

Accession Number: 20120301-5211.

Comments Due: 5 p.m. ET 3/22/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2012.
Nathaniel J. Davis, Sr.,
Deputy Secretary.

[FR Doc. 2012-5767 Filed 3-8-12; 8:45 am]

BILLING CODE 6717-01-P